DEPARTMENT OF DEFENSE

Office of the Secretary

Defense Health Board (DHB) Meeting; DoD Task Force on the Prevention of Suicide by Members of the Armed Forces

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the following meeting is announced:

Name of Committee: DoD Task Force on the Prevention of Suicide by Members of the Armed Forces, a subcommittee of the Defense Health Board (DHB).

Dates: December 15, 2009 (subject to the availability of space, the meeting is open to the public).

Times: 9 a.m.-4 p.m.

Place of Meeting: Bethesda Marriott, 5151 Pooks Hill Road, Bethesda, MD 20814.

Purpose of the Meeting: The purpose of the meeting is to receive briefings regarding current Service efforts related to the investigation of suicides among members of the Armed Services.

Agenda: On December 15, 2009, the DoD Task Force on the Prevention of Suicide by Members of the Armed Forces will receive briefings from Service experts and others related to their procedures on investigations within the safety and risk management areas. Task Force members will also receive briefings on the processes used by the Services in conducting suicide investigations.

Pursuant to 5 U.S.C. 552b, as amended, and 41 CFR 102-3.140 through 102-3.165 and subject availability of space, the DoD Task Force on the Prevention of Suicide by Members of the Armed Forces meeting December 15, 2009 is open to the public. Any member of the public wishing to provide input to the Task Force on the Prevention of Suicide by Members of the Armed Forces should submit a written statement in accordance with 41 CFR 102-3.140(c) and section 10(a)(3) of the Federal Advisory Committee Act, and the procedures described in this notice. Written statement should be not longer than two type-written pages and must address the following detail: The issue, discussion, and a recommended course of action. Supporting documentation may also be included as needed to establish the appropriate historical context and to provide any necessary background information.

Individuals desiring to submit a written statement may do so through the Board's Designated Federal Officer (DFO) at the address under FOR FURTHER INFORMATION CONTACT. However, if the written statement is not received at least 10 calendar days prior to the meeting, which is subject to this notice, then it may not be provided to or considered by the Task Force on the Prevention of Suicide by Members of the Armed Forces until the next open meeting.

The DFO will review all timely submissions with the Task Force on the Prevention of Suicide by Members of the Armed Forces Co-Chairpersons, and ensure they are provided to members of the Task Force before the meeting that is subject to this notice. After reviewing the written comments, the Co-Chairpersons and the Designated Federal Officer may choose to invite the submitter of the comments to orally present their issue during an open portion of this meeting or at a future meeting.

The DFO, in consultation with the Task Force on the Prevention of Suicide by Members of the Armed Forces Co-Chairpersons, may, if desired, allot a specific amount of time for members of the public to present their issues for review and discussion by the Task Force on the Prevention of Suicide by Member of the Armed Forces.

Additional information, agenda updates, and meeting registration are available online at the Defense Health Board Web site, http://www.ha.osd.mil/dhb. The public is encouraged to register for the meeting. If special accommodations are required to attend (sign language, wheelchair accessibility) please contact Ms. Severine Bennett at (202) 374-5755 or bennett_severine@bah.com by December 1, 2009.

FOR FURTHER INFORMATION CONTACT: Col. JoAnne McPherson, Executive Secretary, DoD Task Force on Suicide Prevention by Members of the Armed Forces, Three Skyline Place, 5201 Leesburg Pike, Suite 400, Falls Church, Virginia 22041, (703) 824-7007, Fax: (703) 824-3832, JoAnne.Mcpherson@pentagon.af.mil.

Written statements may be sent to the mailing address under this caption, e-mailed to: dhb@ha.osd.mil, or faxed to: (703) 681-3317.

Dated: November 19, 2009.
Mitchell S. Bryman,
Alternate OSD Federal Register Liaison Officer, Department of Defense.

[FR Doc. E9-28173 Filed 11-23-09; 8:45 am]

BILLING CODE 5001-06-P